ENVIRONMENTAL PROTECTION AGENCY

[EPA-HQ-OW-2007-1156; FRL-8760-3]

RIN 2040-2A03

Cruise Ship Discharge Assessment Report

AGENCY: Environmental Protection Agency (EPA).

ACTION: Notice of availability.

SUMMARY: EPA announces the availability of the completed Cruise Ship Discharge Assessment Report, which assesses five cruise ship waste streams (i.e., sewage, graywater, oily bilge water, solid waste, and hazardous waste). EPA prepared and invited public comment on the draft Cruise Ship Discharge Assessment Report as part of its response to a petition submitted by the Bluewater Network on behalf of a number of environmental advocacy organizations. Today's action is intended to complete this portion of EPA's response to the petition.

FOR FURTHER INFORMATION CONTACT: Laura S. Johnson, Oceans and Coastal Protection Division, Office of Wetlands, Oceans, and Watersheds (4504T), U.S. EPA, 1200 Pennsylvania Ave., NW., Washington, DC 20460; telephone number: (202) 566-1273; fax number: (202) 566-1546; e-mail address: johnson.laura-s@epa.gov.

SUPPLEMENTARY INFORMATION:

I. General Information

A. Interested Entities

Entities potentially interested in today's notice are those who are interested in or addressing cruise ship waste streams. Categories and entities interested in today's notice include:

Category | Examples of interested entities
Federal Government | U.S. Coast Guard, National Oceanic and Atmospheric Administration, U.S. Department of Justice.
State/Local/Tribal Government | Governments interested in or addressing cruise ship waste streams.
Industry and General Public | Cruise industry, environmental interest groups.

This table is not intended to be exhaustive, but rather provides a guide for readers regarding entities likely to be interested in this notice. This table lists the types of entities that EPA is now aware could potentially be interested in this notice. Other types of entities not listed in the table could also be interested.

B. How Can I Get Copies of This Document and Other Related Information?

1. Document Electronic Access. To obtain a copy of the report entitled Cruise Ship Discharge Assessment Report, please access our Web site at: http://www.epa.gov/owow/oceans/cruise_ships/disch_assess.html.

2. Federal Register Docket. EPA has established a public docket for this notice under Docket ID No. EPA-HQ-OW-2007-1156. The public docket consists of the documents specifically referenced in this notice and other information related to this notice. The public docket does not include information claimed as Confidential Business Information (CBI) or other information whose disclosure is restricted by statute. Publicly available docket materials are available either electronically through www.regulations.gov or in hard copy at the Water Docket in the EPA Docket Center.

3. Federal Register Electronic Access. You may access this Federal Register document electronically through the EPA Internet under the “Federal Register ” listings at: http://www.epa.gov/fedrgstr/.

II. Background

Cruise ships operate in every ocean worldwide, often in pristine coastal waters and sensitive marine ecosystems. Cruise ship operators provide amenities to their passengers that are similar to those of luxury resort hotels, including pools, hair salons, restaurants, and dry cleaners. As a result, cruise ships have the potential to generate wastes similar in volume and character to those generated by hotels.

In March 2000, an environmental advocacy group called the Bluewater Network, representing 53 environmental organizations, submitted a petition to the U.S. Environmental Protection Agency (EPA), requesting that EPA identify and take regulatory action on measures to address pollution by cruise ships. Specifically, the petition requested an in-depth assessment of the volumes and characteristics of cruise ship waste streams; analysis of their potential impact on water quality, the marine environment, and human health; examination of existing federal regulations governing cruise ship waste streams; and formulation of recommendations on how to better control and regulate these waste streams. The petition included specific requests related to sewage, graywater, oily bilge water, solid wastes, and hazardous wastes, as well as monitoring, recordkeeping, and reporting. In addition, the petition requested that EPA prepare a report of its investigations and findings. An August 2000 addendum to the petition requested that EPA examine and develop recommendations on how to address air pollution from cruise ships.

EPA's full response to the petition and the addendum from Bluewater Network was signed by EPA's Assistant Administrator for Water on January 31, 2008, and can be accessed at the public docket established for the Cruise Ship Discharge Assessment Report. (See Unit I.B.) As part of this response, EPA prepared a draft Cruise Ship Discharge Assessment Report (draft Assessment Report) assessing five primary cruise ship waste streams, specifically, sewage, graywater, oily bilge water, solid waste, and hazardous waste. For each waste stream, the draft Assessment Report discusses (1) The nature and volume of the waste stream generated; (2) existing federal regulations applicable to the waste stream; (3) environmental management, including treatment, of the waste stream; (4) potential adverse environmental impacts of the waste stream; and (5) actions by the Federal Government to address the waste stream.

On December 20, 2007, EPA published in the Federal Register a notice of availability and request for public comment on this draft Assessment Report (72 FR 72353). In addition to requesting comments on the draft Assessment Report, EPA solicited input on options, alternatives, and recommendations on how to address the waste streams assessed in the draft Assessment Report. EPA extended the initial 45-day comment period on the draft Assessment Report by 15 days in response to public requests; the comment period ended on February 19, 2008. EPA received 26 comment letters during the comment period and those letters can be accessed at the docket. (See Unit I.B. for details.)

III. This Action

EPA announces the availability of the completed Cruise Ship Discharge Assessment Report (Assessment Report). Today's action is intended to complete this portion of EPA's response to the petition on cruise ship pollution submitted by the Bluewater Network on behalf of a number of environmental advocacy organizations.

IV. Summary of Comments on the Draft Assessment Report

EPA received 26 comment letters on the draft Assessment Report. Some comments related to information in the draft Assessment Report; some comments provided options, alternatives, and recommendations on how to address the waste streams discussed in the draft Assessment Report. Many of the commenters expressed concern over the potential environmental impacts of cruise ship waste streams. EPA carefully considered all comments when completing the Assessment Report. Based on these comments, EPA made changes to the draft Assessment Report to clarify information and in some cases, added new information.

In particular, some commenters requested a fuller discussion of efforts by state governments to regulate and manage cruise ship waste streams. The completed Assessment Report includes an appendix with relevant information regarding such efforts by state governments to date. Other new information includes an additional section in each chapter identifying a range of options and alternatives (regulatory or non-regulatory) that address the five specified waste streams from cruise ships. Inclusion of any particular option does not imply any EPA recommendation or preference for future action, or that EPA has determined that any of these options are necessary or feasible, or that EPA believes a change to the status quo is warranted, or that EPA or any other entity has the legal authority to implement that option.

In the completed Assessment Report, the options and alternatives listed to address the specified cruise ship waste streams are based on the public comments received, as well as other information gathered. A number of commenters recommended changes to discharge standards and/or geographic restrictions on discharges. Commenters also recommended increased monitoring, reporting, inspections, and enforcement of cruise ship waste stream discharges and management. Some commenters recommended a careful evaluation of cumulative impacts of multiple vessels discharging in one location. Other commenters recommended careful consideration and/or identification of sensitive or at-risk habitats when evaluating the potential impacts of discharges. These recommendations have been incorporated into the options and alternatives sections found at the end of each waste stream chapter of the completed Assessment Report.

While some commenters requested regulatory action to implement their recommendations for addressing cruise ship waste streams, EPA does not commit, through the completed Assessment Report, to the formulation of any Agency recommendations on whether, and if so how, any existing regulations should be revised. Though the completed Assessment Report identifies possible options and alternatives representing a wide range of actions that could be taken to address the five specific waste streams from cruise ships, EPA did not conduct an analysis for each such discharge to determine if changes to the current regulatory scheme are warranted. However, EPA is completing its analysis of Alaska cruise ship sewage and graywater standards in a separate assessment of the adequacy of those legislative standards (which apply under special legislation only to those ships and to those discharges).

As a part of a separate effort, recent legislation (Pub. L. 110-299) directs EPA to conduct a study to evaluate the impacts of discharges incidental to the normal operation of commercial fishing vessels (regardless of size) and other non-recreational vessels less than 79 feet in length. Except for ballast water, the incidental discharges from those vessels are subject to a moratorium on National Pollutant Discharge Elimination System (NPDES) permitting that expires July 31, 2010.

Some commenters questioned the draft Assessment Report's focus on Alaska and requested that similar assessments be conducted in other geographic regions. While much of the information about the treatment and discharge of sewage and graywater presented in the draft and completed Assessment Reports was collected in Alaska, the Assessment Report is not solely focused on conditions or impacts in Alaska. For example, the sections on potential environmental impacts in the sewage and graywater chapters compare these waste streams to national standards and criteria. The information provided in the completed Assessment Report should be helpful to stakeholders interested in evaluating potential impacts on a regional or waterbody basis.

A number of commenters suggested that dilution should not be considered in evaluating potential impacts of sewage and graywater discharges from cruise ships. Other commenters suggested that dilution is a very important part of such assessments, particularly when discharges are from ships underway, and therefore should be discussed earlier and more frequently in the sewage and graywater chapters. The Assessment Report discussed dilution because it is relevant to assessments of potential toxicity, and in some locations dilution is relevant to a determination of whether receiving waters are attaining concentration-based water quality standards. The Assessment Report's discussion of dilution does not express any conclusion and should not be read to imply that dilution addresses all potential environmental impacts from these discharges.

Related to this, one commenter suggested that the evaluation of Type II Marine Sanitation Devices for vessel sewage should always include a discussion of dilution while ships are underway. While a number of cruise lines have voluntarily agreed to discharge from a Type II Marine Sanitation Device only when the vessel is underway and offshore, as a practical matter, such restrictions are not required, either as a matter of circumstance or by law.

Some commenters requested more information on potential treatment technologies for sewage and graywater treatment, such as cost, space, and safety information. More information on these technology options will be made available at EPA's Web site (http://www.epa.gov/owow/oceans/cruise_ships/) upon completion of EPA's analysis of cruise ship sewage and graywater discharges in Alaska waters.

One commenter noted that other waste streams and contaminants, such as hull coating leachate, deck runoff, ballast water, viruses, and pharmaceuticals, were not addressed in the draft Assessment Report. The Bluewater Network petition made specific requests related to certain identified cruise ship waste streams for which EPA was to conduct an assessment and produce a report of the investigations and findings. Those same five specified cruise ship waste streams from the petition (sewage, graywater, oily bilge water, solid waste, and hazardous waste) are assessed in the completed Assessment Report. There are a number of other waste streams that may be generated onboard cruise ships, some of which may be considered incidental to the normal operation of a vessel (e.g., ballast water, deck runoff, hull coat leachate). In responding to the petition, EPA did not attempt to assess such other waste streams, and therefore, the completed Assessment Report does not present an assessment of these other waste streams. There are EPA efforts underway, however, that reach beyond the scope of this Assessment Report. For information regarding EPA efforts relating to the occurrence of pharmaceuticals and personal care products, visit EPA's Web site at http://www.epa.gov.ppcp.

In a separate effort, EPA developed a Clean Water Act (CWA) general permit that addresses a range of discharges incidental to the normal operation of commercial vessels, including some of the additional wastes identified by the preceding comment. By virtue of a court decision, which vacated the EPA regulation that had excluded these discharges from NPDES permitting, these discharges will become subject to CWA permitting requirements as of February 6, 2009. Except for ballast water, subsequent legislation (Pub. L. 110-299) exempts commercial vessels shorter than 79 feet and commercial fishing vessels (regardless of their size) from NPDES permitting requirements for these discharges for a period of two years (during which time EPA has been directed to conduct further study and analysis).

One commenter urged EPA and other federal agencies to work at the international level on issues directly associated with discharges from cruise ships and other ocean-going vessels. Numerous federal agencies are presently working cooperatively through forums, such as the International Maritime Organization, to enhance international environmental protection standards. At present, the U.S. government is simultaneously supporting efforts to enhance international standards related to discharges of machinery space wastes, sewage, and garbage. In addition, among other efforts, the U.S. government is also working diligently to enhance and implement international standards relating to air emissions from ships, including measures to reduce greenhouse gas emissions. This work is ongoing and extensive.

Dated: December 30, 2008.
Benjamin H. Grumbles,
Assistant Administrator for Water.

[FR Doc. E8-31453 Filed 1-5-09; 8:45 am]

BILLING CODE 6560-50-P